DEPARTMENT OF THE INTERIOR

Bureau of Land Management

[LLNMF02000.L16100000.DP0000.223L1109AF]

Notice of Intent To Amend the Taos Resource Management Plan and Prepare an Environmental Assessment for the Proposed Recreational Shooting Range Project on Public Lands in Santa Fe County

AGENCY: Bureau of Land Management, Interior.

ACTION: Notice of intent.

SUMMARY: In compliance with the National Environmental Policy Act of 1969, as amended (NEPA), and the Federal Land Policy and Management Act of 1976 (FLPMA), as amended, the Bureau of Land Management (BLM) New Mexico State Director intends to prepare a resource management plan (plan) amendment with an associated environmental assessment (EA) to propose the development of up to three recreational shooting ranges and closure of certain areas to recreational shooting. This notice is announcing the beginning of the scoping period to solicit public comments and identify issues, provides the planning criteria for public review, and announces the comment period on the BLM's proposed target shooting closures.

DATES: The BLM requests comments concerning the scope of the analysis, potential alternatives, planning criteria, and identification of relevant information or studies by October 24, 2022. To afford the BLM the opportunity to consider issues raised by commenters in the draft plan amendment/analysis, please ensure your comments are received prior to the close of the 60-day scoping period or 15 days after the last public meeting, whichever is later. Public scoping meetings will be held during the scoping period. The dates, times, and locations of the public meetings will be announced at least 15 days in advance.

In addition, this notice also announces the opening of a 60-day comment period for proposed target shooting closures. The BLM must receive your target shooting related comments by October 24, 2022. The BLM will provide additional opportunities for public participation as appropriate.

ADDRESSES: You may submit comments on issues related to the Recreational Shooting Range Project, including the plan amendment and proposed closures, by any of the following methods:

• Website: https://eplanning.blm.gov/eplanning-ui/project/2013605/510

• Mail: Bureau of Land Management, Attention: Brad Higdon, 1024 Paseo del Pueblo Sur, Taos, NM 87571

Documents pertinent to this proposal may be examined at the Taos Field Office, 1024 Paseo del Pueblo Sur in Taos, New Mexico.

FOR FURTHER INFORMATION CONTACT: Brad Higdon, Planning and Environmental Specialist, telephone (575) 751-4725; address 1024 Paseo del Pueblo Sur, Taos, NM 87571; email bhigdon@blm.gov. Contact Mr. Higdon to have your name added to our mailing list. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The closure of certain areas within Santa Fe County, New Mexico, would be conducted in compliance with the John D. Dingell, Jr. Conservation, Management, and Recreation Act of 2019 (Dingell Act), 16 U.S.C. 7913.

This document provides notice that the BLM New Mexico State Director intends to amend the 2012 Taos Resource Management Plan with an associated EA proposing to develop recreational shooting ranges and close unsafe areas along roads to target shooting, thus beginning the scoping process. Additionally, this notice seeks public input on issues and planning criteria that are subject to the plan amendment and seeks comments on proposed target shooting closures. The plan amendment will allow the BLM to address public safety issues and evaluate providing safe, controlled target shooting opportunities on public lands. The planning area is located in Santa Fe County, New Mexico, and encompasses approximately 38,000 acres of public land. While the planning area includes lands designated within the Santa Fe Ranch and La Cienega Areas of Critical Environmental Concern, the scope of this land use plan amendment does not include evaluation or designation of special management areas, including areas of critical environmental concern. The BLM is not considering nominations for areas of critical environmental concern as part of this process.

Purpose and Need

The purpose of the proposed action is to provide safe, controlled opportunities for recreational shooting on BLM-managed lands in Santa Fe County, away from residential areas, and in a manner that minimizes impacts to other resources and public land users. The action is needed to address conflicts associated with the concentration of unmanaged target shooting activities near residential areas. Unconfined target shooting activities in three urban-interface areas—Buckman, Camel Tracks, and San Pedro Mountains—are causing public safety concerns, degradation of natural and cultural resources, waste accumulation, threat of wildfire, and noise disturbances inconsistent with the BLM's responsibilities under FLPMA section 102(a)(8). Residents in neighboring areas have repeatedly expressed concerns regarding the safe enjoyment of their private properties, the threat of wildfire ignitions from shooting-related activities, and disruptive noise. Most importantly, when more than one shooting party is present, the lack of controls in these areas pose safety risks to other recreationalists, livestock grazing permittees, and other public land users. These impacts persist despite repeated efforts by the BLM to remove trash and lead contaminants, mitigate fuelwood loads around undeveloped shooting locations, and public education efforts. The lack of public shooting ranges in Santa Fe County has led to the three areas on BLM-managed lands to becoming de facto shooting destinations.

Preliminary Alternatives

The BLM is proposing to develop up to three recreational shooting ranges, remediate currently used undeveloped shooting locations, and close certain areas of public lands to recreational target shooting. These recreational shooting closures require an amendment to the Taos Resource Management Plan (RMP). The agency is proposing the plan amendment to identify and specify areas closed to recreational shooting. In the Buckman and San Pedro Mountain areas, the proposed closures would be new land use allocations limiting shooting sports to only hunting activities, while the closure in the Camel Tracks area would expand a shooting closure currently implemented under the Taos RMP. The BLM may also consider limiting recreational and other uses downrange of the proposed shooting ranges as additional safety precautions.

The BLM proposes to apply permanent shooting closures to the following three areas:

Buckman: The potential closure would apply to approximately 13,622 acres of the 21,115 acres of BLM-managed public lands. The area proposed for closure to recreational shooting in Buckman, which encompasses the Santa Fe Ranch ACEC, would include public lands within the following:

T. 19 N., R. 8 E., NMPM

Sec. 31.

T. 18 E., R. 7 E., NMPM

Secs. 1 and 12.

T. 18 E., R. 8 E., NMPM

Secs. 5, 6, 7, 8, 11, 12, 13, 14, 17, 18, 20, 21, 22, 23, 24, 25, 26, 27, 28, 29, 33, 34, and 35.

T. 17 N., R. 8 E., NMPM

Secs. 3, 4, 9, 10, 15, and 22.

Camel Tracks: The potential closure would apply to approximately 7,260 acres of the 14,259 acres of BLM-managed public lands. Public lands proposed for closure to recreational shooting in Camel Tracks, which encompasses La Cienega Area of Critical Environmental Concern, include lands within the following:

T. 16 N., R. 7 E., NMPM

Secs. 1, 10, 11. 12, 13, 14, 15, 22, 23, 24, 26, and 27.

T. 16 N., 8 E., NMPM

Secs. 7, 8, 18, and 19.

San Pedro Mountains: The potential closure would apply to approximately 827 acres of the 2,565 acres of BLM managed lands. Public lands proposed for closure to recreational target shooting in this area include lands within the following:

T. 12 N., R. 7 E., NMPM

Secs. 17, 20, 21, 22, 27, 28, 29, and 32.

The BLM welcomes comments on this preliminary alternative as well as suggestions for additional alternatives.

Planning Criteria

Planning criteria guide the planning effort and lay the groundwork for effects analysis by identifying the preliminary issues and their analytical frameworks. Preliminary issues for the planning area have been identified by the BLM interdisciplinary team and from early engagement conducted for this planning effort with federal, state, and local agencies; Tribes; and stakeholders.

Preliminary issues identified for the proposed shooting range development and associated closures include the following: public safety, recreational opportunities, noise, and potential impacts to soils, biological resources, and cultural resources, including traditional cultural properties. The preliminary planning criteria for the plan amendment includes the following: (1) the scope of the plan amendment is limited to prohibiting a single use (recreational target shooting) on certain portions of public lands; (2) the plan amendment will carefully weigh the benefits of enhanced opportunities for recreational shooting at developed ranges against the adverse effects of the recreational shooting opportunities foregone by the proposed shooting closures in the three areas; (3) the closure to a public land use will be applied to the smallest area necessary to provide for public safety, sustainable resource management, and the protection of important resource values, consistent with the Dingell Act of 2019; (4) the prohibited use will only apply to recreational target shooting and any discharge of firearms for purposes other than active, lawful hunting on the public lands identified above; (5) the amendment will comply with FLPMA, NEPA, and all other applicable laws, regulations, Executive and Secretarial Orders, and policies; (6) the amendment will incorporate all other management decisions brought forward from the Taos Resource Management Plan, approved in May 2012; (7) broad-based public participation and collaboration will be an integral part of the planning process; (8) the planning process will provide for ongoing consultation with Native American tribal governments and strategies for protecting traditional cultural properties; and (9) the BLM will work collaboratively with cooperating agencies and all other interested groups, agencies, and individuals.

Public Scoping Process

This notice of intent initiates the scoping period and public review of the planning criteria, which guide the development and analysis of the RMP amendment and EA.

The BLM will hold two in-person meetings in Santa Fe and one virtual meeting online. The specific dates and location(s) of these scoping meetings will be announced at least 15 days in advance through email, mail, local media, and on the ePlanning project web page identified in the ADDRESSES section, above.

Dingell Act Recreational Shooting Closures

In accordance with the John D. Dingell, Jr. Conservation, Management, and Recreation Act of 2019 (Dingell Act, Pub. L. 116-9, section 4103), the BLM is announcing the opening of a 60-day public comment period on the proposed permanent shooting closures in the areas described under Preliminary Alternatives above. The closures are proposed to eliminate conflicts and safety issues associated with recreational shooting, including conflicts with other public lands users, neighboring residents, and the degradation of cultural and natural resources. The closures would relocate recreational shooting opportunities away from residential areas and encourage the use of developed shooting ranges where opportunities would be enhanced. The closures would also allow for the removal of trash and lead contaminants and the remediation of soils, vegetation, and wildlife habitat in the three areas. Comments may be submitted using any of the methods listed in the ADDRESSES section, above.

Interdisciplinary Team

The BLM will use an interdisciplinary approach to develop the plan and to consider the variety of resource issues and concerns identified. Specialists with expertise in the following disciplines will be involved in this planning effort: archaeology, botany, biology, land use planning, range management, realty, and outdoor recreation.

Additional Information

The BLM will identify, analyze, and consider mitigation to address the reasonably foreseeable impacts to resources from the proposed plan amendment and all reasonable alternatives and, in accordance with 40 CFR 1502.14(e), include appropriate mitigation measures not already included in the proposed plan amendment or alternatives. Mitigation may include avoidance, minimization, rectification, reduction or elimination over time, and compensation. Mitigation may be considered at multiple scales, including the landscape scale.

The BLM will utilize and coordinate the NEPA and land use planning processes for this planning effort to help support procedural requirements under the Endangered Species Act (16 U.S.C. 1536) and Section 106 of the National Historic Preservation Act (54 U.S.C. 306108) as provided in 36 CFR 800.2(d)(3), including public involvement requirements of section 106. The information about historic and cultural resources and threatened and endangered species within the area potentially affected by the proposed plan will assist the BLM in identifying and evaluating impacts to such resources.

The BLM will consult with Indian Tribes on a government-to-government basis in accordance with Executive Order 13175, BLM MS 1780, and other Departmental policies. Tribal concerns, including impacts on Indian trust assets and potential impacts to cultural resources, will be given due consideration. Federal, State, and local agencies, along with Tribes and stakeholders that may be interested in or affected by the proposed plan amendment that the BLM is evaluating, are invited to participate in the scoping process and, if eligible, may request or be requested by the BLM to participate in the development of the EA as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Melanie G. Barnes,
State Director, BLM New Mexico.

[FR Doc. 2022-18328 Filed 8-24-22; 8:45 am]

BILLING CODE 4331-23-P